ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC, Monday through Wednesday, March 12-14, 2007, at the times and location noted below.

DATES: The schedule of events is as follows:

Monday, March 12, 2007

10:30-Noon Technical Programs Committee

1:30-3 p.m. Planning and Evaluation Committee

3-3:30 Budget Committee

3:30-5 Committee of the Whole—Board meeting dates; Additional Board members; Transfer heights for amusement rides (Closed Session)

Tuesday, March 13, 2007

9-Noon Passenger Vessels Guidelines Ad Hoc Committee

1:30-5 p.m. Transportation Vehicle Guidelines Ad Hoc Committee

Wednesday, March 14, 2007

9 a.m.-Noon Electronic and Information Technology-Access Issues in Electronic and Information Technology

1:30-3 p.m. Board Meeting

ADDRESSES: All meetings will be held at The Madison Hotel, 1177 15th Street, NW., Washington, DC 20005.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

• Approval of the January 2007 draft Board Meeting Minutes

• Technical Programs Committee Report

• Planning and Evaluation Committee Report

• Budget Committee Report

• Committee of the Whole Report

• Transportation Vehicle Guidelines Ad Hoc Committee Report

• Passenger Vessels Guidelines Ad Hoc Committee Report

• Election of Officers

All meetings are accessible to persons with disabilities. An assistive listening system, computer assisted real-time transcription (CART), and sign language interpreters will be available at the Board meetings. Persons attending Board meetings are requested to refrain from using perfume, cologne, and other fragrances for the comfort of other participants.

Lisa Fairhall,
Deputy General Counsel.

[FR Doc. E7-3639 Filed 3-1-07; 8:45 am]

BILLING CODE 8150-01-P